NATIONAL AERONAUTICS AND SPACE ADMINISTRATION

[Notice: (02-051)]

Information Collection; Comment Request

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). NASA will utilize the information collected to determine whether the Agency's recruitment efforts are reaching all segments of the country.

DATES: All comments should be submitted within 60 calendar days from the date of this publication.

ADDRESSES: All comments should be addressed to Ms. Candace Irwin, Code FPP, National Aeronautics and Space Administration, Washington, DC 20546-0001.

FOR FURTHER INFORMATION CONTACT: Ms. Nancy Kaplan, NASA Reports Officer, (202) 358-1372.

Title: NASA Voluntary On-Line Job Applicant Racial and Ethnic Data Collection.

OMB Number: 2700.

Type of review: New collection.

Need and Uses: Information is used by NASA personnel staff to determine if recruitment efforts are reaching all segments of the country, as required by Federal law.

Affected Public: Individuals or households; Federal government.

Number of Respondents: 40,000.

Responses Per Respondent: 1.

Annual Responses: 40,000.

Hours Per Request: 5 min/request.

Annual Burden Hours: 3,334.

Frequency of Report: On occasion.

David B. Nelson,
Deputy Chief Information Officer, Office of the Administrator.

[FR Doc. 02-9527 Filed 4-18-02; 8:45 am]

BILLING CODE 7510-01-P